DEPARTMENT OF LABOR

Employment and Training Administration

[TA-W-82,455; TA-W-82,455A; TA-W-82,455B; TA-W-82,455C; TA-W-82,455D]

First Advantage Corporation, Including On-Site Leased Workers From Tapfin, Staffworks, Aerotek Professional Services, Randstad, Insight Global, LLC and RemX Specialty Staffing, St. Petersburg, Florida; First Advantage Corporation, Charlotte, North Carolina, First Advantage Corporation, Bolingbrook, Illinois; First Advantage Corporation, Dallas, Texas; First Advantage Corporation, Alpharetta, Georgia; Amended Certification Regarding Eligibility To Apply for Worker Adjustment Assistance

In accordance with Section 223 of the Trade Act of 1974, as amended (“Act”), 19 U.S.C. 2273, the Department of Labor issued a Certification of Eligibility to Apply for Worker Adjustment Assistance on May 9, 2013, applicable to workers of First Advantage Corporation, St. Petersburg, Florida. The Department's notice of determination was published in the Federal Register on May 30, 2013 (78 FR 32464).

At the request of a company official, the Department reviewed the certification for workers of the subject firm. The workers are engaged in talent acquisition services.

The company official reports that workers in Charlotte, North Carolina; Bolingbrook, Illinois; Dallas, Texas; and Alpharetta, Georgia have been separated or are threatened with separation due to the same shift of services to a foreign country that has contributed importantly to separations in St. Petersburg, Florida. The worker group includes workers tele-working from their homes reporting to these locations.

The amended notice applicable to TA-W-82,455 is hereby issued as follows:

All workers of First Advantage Corporation, including on-site leased workers from Tapfin, Staffworks, Aerotek Professional Services, Randstad, Insight Global, LLC, and RemX Specialty Staffing, St. Petersburg, Florida (TA-W-82,455), Charlotte, North Carolina (TA-W-82,455A), Bolingbrook, Illinois (TA-W-82,455B), Dallas, Texas (TA-W-82,455C), and Alpharetta, Georgia (TA-W-82,455D), who became totally or partially separated from employment on or after February 11, 2012 through May 9, 2015, and all workers in the group threatened with total or partial separation from employment on the date of certification through May 9, 2015 are eligible to apply for adjustment assistance under Chapter 2 of Title II of the Trade Act of 1974, as amended.

Signed in Washington, DC, this 5th day of November 2013.
Michael W. Jaffe,
Certifying Officer, Office of Trade Adjustment Assistance.

[FR Doc. 2013-27935 Filed 11-20-13; 8:45 am]

BILLING CODE 4510-FN-P